ENVIRONMENTAL PROTECTION AGENCY

[FRL -7873-7]

Science Advisory Board Staff Office; Notification of Public Meetings of the Science Advisory Board Environmental Engineering Committee

AGENCY: Environmental Protection Agency (EPA).

ACTION: Notice.

SUMMARY: The Environmental Protection Agency (EPA), Science Advisory Board (SAB) Staff Office is announcing two public meetings of the SAB's Environmental Engineering Committee (EEC). The EEC will convene to provide advice on the proposed redesign of EPA's Pollution Prevention and New Technologies research program and conduct other committee business.

DATES: March 10, 2005. A public conference call from 3 p.m. to 5 p.m. Eastern Time for the Committee to plan for the public face-to-face meeting March 15-17, 2005.

March 15-17, 2005. A public meeting will begin on Tuesday, March 15, 2005 at 9 a.m., and adjourn on Thursday, March 17, 2004, about 3 p.m.

Technical Contact: The Office of Research and Development is providing the review materials. These will be posted at: http://www.epa.gov/ORD/NRMRL/sab. Questions about the review materials should be directed to Ms. Alva E. Daniels, Assistant Laboratory Director-Multimedia at the U.S. EPA-ORD National Risk Management Research Laboratory, via telephone/voicemail at (513) 569-7693, fax at (513) 569-7680, e-mail at Daniels.Alva@epa.gov, or by mail at USEPA, 26 West Martin Luther King Drive, Cincinnati, OH 45268.

Meeting Location: The face-to-face meeting will be held at the Science Advisory Board Conference Center located at 1025 F Street, NW., Suite 3705, Washington, DC 20004.

FOR FURTHER INFORMATION CONTACT: Any member of the public wishing further information regarding this meeting may contact Ms. Kathleen White, Designated Federal Officer (DFO), via telephone/voice mail at (202) 343-9878, via e-mail at white.kathleen@epa.gov, or by mail at U.S. EPA SAB (MC 1400F), 1200 Pennsylvania Ave., NW., Washington, DC 20460. General information about the SAB can be found at http://www.epa.gov/sab.

SUPPLEMENTARY INFORMATION:

Background: The SAB was established by 42 U.S.C. 4365 to provide independent scientific and technical advice, consultation, and recommendations to the EPA Administrator on the technical basis for Agency positions and regulations. The SAB's Environmental Engineering Committee advises on many issues relating to waste management, including pollution prevention and industrial ecology and research needs. EPA's Office of Research and Development is redesigning its Pollution Prevention and New Technologies research program and is seeking the advice of the SAB on its proposal. The EEC will provide advice to EPA through the chartered SAB and comply with the provisions of the Federal Advisory Committee Act (FACA) and all appropriate SAB procedural policies.

The SAB's EEC will also take the opportunity provided by this meeting to conduct some other committee business, such as planning for other FY2005 activities and exploration of possible FY2006 initiatives. A roster of EEC is posted on the SAB Web site at: http://www.epa.gov/sab/.

Availability of Meeting Materials: An agenda for each meeting and meeting-related materials will be posted on the SAB Web site at: http://www.epa.gov/sab/agendas prior to the meeting.

Procedures for Providing Public Comments. It is the policy of the SAB Staff Office to accept written public comments of any length, and to accommodate oral public comments whenever possible. The SAB expects that public statements presented at the meeting will not be repetitive of previously submitted oral or written statements. Oral Comments: In general, each individual or group requesting an oral presentation at a face-to-face meeting will be limited to a total time of ten minutes (unless otherwise indicated). Interested parties should contact the DFO in writing (e-mail, fax or mail—see contact information above) by close of business March 4, 2005 in order to be placed on the public speaker list for the meeting. Speakers should bring at least 35 copies of their comments and presentation slides for distribution to the participants and public at the meeting. Written Comments: Although written comments are accepted until the date of the meeting, written comments should be received in the SAB Staff Office at least one week prior to the meeting date so that the comments may be made available to the panel for their consideration. Comments should be supplied to the DFO at the address/contact information noted above in the following formats: one hard copy with original signature, and one electronic copy via e-mail (acceptable file format: Adobe Acrobat, WordPerfect, Word, or Rich Text files (in IBM-PC/Windows 98/2000/XP format). Those providing written comments and who attend the meeting are also asked to bring 35 copies of their comments for public distribution.

Meeting Accommodations: Individuals requiring special accommodation to access this meeting, should contact the DFO at least five business days prior to the meeting so that appropriate arrangements can be made.

Dated: February 9, 2005.
Vanessa T. Vu,
Director, EPA Science Advisory Board Staff Office.

[FR Doc. 05-2989 Filed 2-15-05; 8:45 am]

BILLING CODE 6560-50-P